DEPARTMENT OF ENERGY

Federal Energy Regulatory Commission

[Docket No. CP01-409-000]

Calypso U.S. Pipeline, L.L.C.; Notice Of Availability of the Environmental Assessment for the Proposed Modifications to the Calypso Pipeline Project

December 12, 2006.

The staff of the Federal Energy Regulatory Commission (FERC or Commission) and the Mineral Management Service (MMS) have prepared this Environmental Assessment (EA) to discuss the environmental impacts of the Modifications to the Calypso Pipeline Project proposed by Calypso U.S. Pipeline L.L.C. (Calypso) in the above referenced docket. The proposed project is located in Broward County, Florida; State Waters of Florida; and Federal Waters of the United States.

This EA has been prepared to comply with the requirements of the National Environmental Policy Act (NEPA), the Council of Environmental Quality (CEQ) regulations for implementing NEPA (Title 40, Code of Federal Regulations [CFR], sections 1500-1508), and the Commission's regulations (18 CFR part 380). The staff concludes that approval of this proposal would not constitute a major Federal action significantly affecting the quality of the human environment. The EA also evaluates alternatives to the proposal, including system alternatives; major route alternatives; and route variations.

The FERC prepared this EA to address the potential environmental impacts of the proposed modifications. The original project was addressed by the Final Environmental Impact Statement for the Tractebel Calypso Pipeline Project (FEIS) issued on January 23, 2004. The modified project would use the same methodologies for deepwater construction and onshore construction. However, the landfall portion of the pipeline would be installed in a 3.2-mile-long tunnel. The tunnel proposal eliminates the need for two HDD segments, and 2,132 feet of open cut trench in shallow marine waters, in addition to avoiding all impacts to John U. Lloyd State Park. The tunnel amendment would also incorporate minor route changes to accommodate the methodology. These minor route changes would result in a slight decrease in the length of the landfall portion and thus the overall project length.

Approximately 95 percent of the original project analyzed in the FEIS is relatively unchanged, with the exception of the 6-inch increase in pipeline diameter. The tunnel amendment would increase the pipeline diameter for the modified project from 24 inches to 30 inches and internally coat the pipeline to allow increased flow rates. Calypso does not propose to increase the certificated capacity (832,000 dekatherms/day). The maximum operating pressure (MOAP) would remain 2,200 pounds per square inch (psig). Calypso indicates that the pipeline would most likely be operated at approximately 1530 psig.

The EA has been placed in the public files of the FERC and is available for public inspection at: Federal Energy Regulatory Commission, Public Reference Room, 888 First Street, NE., Room 2A, Washington, DC 20426, (202) 502-8371.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance with eLibrary, the eLibrary helpline can be reached at 1-866-208-3676, TTY (202) 502-8659 or FERCOnlineSupport@ferc.gov. The eLibrary link on the FERC Internet Web site also provides access to the texts of formal documents issued by the Commission, such as orders, notices, and rulemakings.

Magalie R. Salas,
Secretary.

[FR Doc. E6-21556 Filed 12-18-06; 8:45 am]

BILLING CODE 6717-01-P